DEPARTMENT OF ENERGY

Federal Energy Regulatory Commission

[Docket No. CP13-113-000]

Dominion Cove Point LNG, LP; Notice of Final General Conformity Determination for the Cove Point Liquefaction Project

On May 15, 2014, the staff of the Federal Energy Regulatory Commission (FERC or Commission) issued a Draft General Conformity Determination (GCD) concurrent with the Environmental Assessment for the Cove Point Liquefaction Project (EA). The Draft GCD assessed the potential air quality impacts associated with the construction and operation of facilities to process and export domestically-sourced liquefied natural gas (LNG) at the existing Cove Point LNG Terminal in Calvert County, Maryland. In accordance with the General Conformity Regulations under the Code of Federal Regulations Chapter 40 Part 93.156, the Draft GCD was issued for a 30-day public comment period. No comments were received on the Draft GCD; therefore, the Commission staff is issuing this notice to announce the Draft GCD is now the Final GCD.

The GCD was prepared to satisfy the requirements of the Clean Air Act. The FERC staff concludes that the Project will achieve conformity in Maryland and Virginia. Copies of the Draft GCD were previously mailed to the U.S. Environmental Protection Agency, Region III, the Maryland Department of Natural Resources, the Maryland Department of Environment, and the Virginia Department of Environmental Quality.

The GCD addresses the potential air quality impacts from Dominion Cove Point LNG, LP's (Dominion) construction and operation of the following LNG terminal and natural gas pipeline facilities:

• One LNG liquefaction train consisting of gas treatment equipment, natural gas-fired turbine-driven refrigerant compressors, additional power generation including waste heat-driven steam turbine generators, and minor modifications to the existing pier at the LNG terminal;

• The use of two construction off-site areas in Calvert County, Maryland;

• The addition of up to 62,500 horsepower of electric-driven compression at the existing Pleasant Valley Compressor Station in Fairfax County, Virginia; and

• Modifications to an existing metering and regulating in Loudoun County, Virginia.

We received several general comments on the EA related to General Conformity noting that Dominion would purchase emission reduction credits in Frederick County, Maryland to meet the General Conformity requirements. The GCD identifies that the Project is located within the Washington, DC ozone nonattainment air quality control region (AQCR). The Clean Air Act defines nonattainment areas as “any area that does not meet (or that contributes to ambient air quality in a nearby area that does not meet) the national primary or secondary ambient air quality standard for the pollutant”. The EA explains that in order to achieve improved air quality within a nonattainment area, reductions are required throughout the entire AQCR. The General Conformity Regulations require that offsets be purchased “within the same nonattainment or maintenance area (or a nearby area of equal or higher classification provided the emissions from that area contribute to the violations, or have contributed to violations in the past)”. Frederick County is also within the Washington, DC ozone nonattainment AQCR and Dominion has purchased more than the required amount of offsets for the Project, which will sufficiently offset nitrogen dioxide emissions from the Project.

The GCD was placed in the public files of the FERC on May 15, 2014 concurrent with the EA, is available for public viewing on the FERC's Web site at www.ferc.gov using the eLibrary link. A limited number of copies of the EA are available for distribution and public inspection at: Federal Energy Regulatory Commission, Public Reference Room, 888 First Street NE., Room 2A, Washington, DC 20426, (202) 502-8371.

Additional information about the project is available from the Commission's Office of External Affairs at (866) 208-FERC or on the FERC Web site (www.ferc.gov) using the eLibrary link and the Project docket number (e.g., CP13-113). The eLibrary link on the FERC Web site also provides access to the texts of formal documents issued by the Commission, such as orders, notices, and rulemakings.

Dated: August 18, 2014.
Kimberly D. Bose,
Secretary.

[FR Doc. 2014-20060 Filed 8-22-14; 8:45 am]

BILLING CODE 6717-01-P